DEPARTMENT OF COMMERCE

Patent and Trademark Office

37 CFR Part 1

[Docket No.: PTO-P-2020-0018]

Waiver of Original Handwritten Signature Requirement Due to the COVID-19 Outbreak

AGENCY: United States Patent and Trademark Office, Department of Commerce.

ACTION: Waiver of regulations.

SUMMARY: The United States Patent and Trademark Office (USPTO or Office) considers the effects of the COVID-19 outbreak to be an extraordinary situation. Therefore, pursuant to the Office's authority, the USPTO is waiving its only regulatory requirements for an original handwritten signature personally signed in permanent dark ink or its equivalent for certain correspondence with the Office of Enrollment and Discipline and certain payments by credit card. In both instances, the Office will accept copies of handwritten signatures. The USPTO has no other requirements for original handwritten, ink signatures.

DATES: March 30, 2020.

FOR FURTHER INFORMATION CONTACT: For information concerning correspondence with the Office of Enrollment and Discipline: William Covey, Office of Enrollment and Discipline, United States Patent and Trademark Office, P.O. Box 1450, Alexandria, VA 22313-1450; by telephone at (571) 272-4097 or by email at William.Covey@uspto.gov. For information concerning payments by credit cards: Matthew Lee, Office of Finance, United States Patent and Trademark Office, 2051 Jamieson Avenue, Suite 300, Alexandria, VA 22314; by telephone at (571) 272-6343 or by email at Matthew.Lee@uspto.gov.

SUPPLEMENTARY INFORMATION: The USPTO considers the effects of the COVID-19 outbreak to be an “extraordinary situation” within the meaning of 37 CFR 1.183 and 37 CFR 2.146(a)(5) for affected persons doing business before the Office. Accordingly, the USPTO is sua sponte waiving the requirements of 37 CFR 1.4(e)(1) and (2) for an original handwritten signature personally signed in permanent dark ink or its equivalent for correspondence requiring a person's signature and relating to (1) registration to practice before the USPTO in patent cases, enrollment and disciplinary investigations, or disciplinary proceedings; and (2) payments by credit cards where the payment is not being made via the Office's electronic filing systems. The Office notes that the requirements of 37 CFR 1.4(e)(1) and (2) are the only USPTO requirements for original handwritten, ink signatures, and the USPTO has no other requirements for original handwritten, ink signatures. The USPTO's requirements concerning signature methods are set forth in 37 CFR 1.4 and 37 CFR 2.193.

In light of the waiver of the requirements of 37 CFR 1.4(e)(1), the Office of Enrollment and Discipline will accept the signature methods described in 37 CFR 1.4(d). In light of the waiver of the requirements of 37 CFR 1.4(e)(2), the Office of Finance will accept the signature methods described in 37 CFR 1.4(d). Persons providing such submissions to the Office are reminded that, pursuant to 37 CFR 1.4(d)(4), such submissions constitute a certification under 37 CFR 11.18(b) and that violations of 37 CFR 11.18(b) may be subject to disciplinary action pursuant to 37 CFR 11.18(d). And, in circumstances where deemed appropriate, the Office of Enrollment and Discipline and the Office of Finance may request that signatures be ratified/confirmed pursuant to 37 CFR 1.4(h).

The USPTO already permits persons to provide true copies of handwritten signatures or electronic signatures that meet the requirements of 37 CFR 2.193(c) on each piece of Trademark correspondence that requires a signature. 37 CFR 2.193(a). Likewise, the USPTO already permits persons to provide a direct or indirect copy of an original handwritten signature (37 CFR 1.4(d)(1)(ii)) or S-signatures that meet the requirements of 37 CFR 1.4(d)(2) on each piece of Patent correspondence that requires a signature. 37 CFR 1.4(d)(1). This waiver is effective until further notice is provided by the Office. Such notice may take place by publication of a document in the Federal Register and the USPTO's website.

Andrei Iancu,
Under Secretary of Commerce for Intellectual Property and Director of the United States Patent and Trademark Office.

[FR Doc. 2020-06186 Filed 3-27-20; 8:45 am]

BILLING CODE 3510-16-P